ENVIRONMENTAL PROTECTION AGENCY

40 CFR Part 52

[EPA-R07-OAR-2017-0143; FRL-9966-58-Region 7]

Air Plan Approval; Iowa; Amendment to the Administrative Consent Order, Grain Processing Corporation, Muscatine, Iowa

AGENCY: Environmental Protection Agency (EPA).

ACTION: Proposed rule.

SUMMARY: The Environmental Protection Agency (EPA) is proposing to approve a revision to the State Implementation Plan (SIP) submitted by the State of Iowa for the purpose of incorporating an amendment to the Administrative Consent Order (ACO), Grain Processing Corporation (GPC), Muscatine, Iowa. The revision amends the ACO to change the date for completion of performance testing to allow the state more time to complete processing air construction permit applications submitted by GPC and specify testing requirements as appropriate in the final permits. This revision will not impact the schedule for installation and operation of control equipment, will not alter any other compliance dates, and will not adversely affect air quality in Muscatine, Iowa. In the “Rules and Regulations” section of this Federal Register, we are approving the state's SIP revisions as a direct final rule without a prior proposed rule. If we receive no adverse comment, we will not take further action on this proposed rule.

DATES: Comments must be received by September 25, 2017.

ADDRESSES: Submit your comments, identified by Docket ID No. EPA-R07-OAR-2017-0143, to http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

FOR FURTHER INFORMATION CONTACT: Heather Hamilton, Environmental Protection Agency, Air Planning and Development Branch, 11201 Renner Boulevard, Lenexa, Kansas 66219 at (913) 551-7039, or by email at hamilton.heather@epa.gov.

SUPPLEMENTARY INFORMATION: This document proposes to take action on a SIP revision submitted by the State of Iowa for the purpose of incorporating an amendment to the Administrative Consent Order (ACO) with Grain Processing Corporation (GPC), Muscatine, Iowa.

The state held a 30-day comment period, during which no comments were received.

Additional information with respect to this proposed rule is included in the Technical Support Document that is part of this docket.

We have published a direct final rule approving the State's SIP revision (s) in the “Rules and Regulations” section of this Federal Register, because we view this as a noncontroversial action and anticipate no relevant adverse comment. We have explained our reasons for this action in the preamble to the direct final rule. If we receive no adverse comment, we will not take further action on this proposed rule. If we receive adverse comment, we will withdraw the direct final rule and it will not take effect. We would address all public comments in any subsequent final rule based on this proposed rule. We do not intend to institute a second comment period on this action. Any parties interested in commenting must do so at this time. For further information, please see the information provided in the ADDRESSES section of this document.

List of Subjects in 40 CFR Part 52

Environmental protection, Air pollution control, Incorporation by reference, Particulate matter, Reporting and recordkeeping requirements.

Dated: August 9, 2017.
Edward H. Chu,
Acting Regional Administrator, Region 7.

[FR Doc. 2017-17418 Filed 8-24-17; 8:45 am]

BILLING CODE 6560-50-P